FEDERAL RETIREMENT THRIFT INVESTMENT BOARD

Sunshine Act; Notice of Meeting

TIME AND DATE: Parts open to the public begin at 8:30 a.m. April 20, 2015.

PLACE: 10th Floor Board Meeting Room, 77 K Street NE., Washington, DC 20002.

STATUS: Parts will be open to the public and parts closed to the public.

MATTERS TO BE CONSIDERED:

Parts Open to the Public

1. Approval of the Minutes of the March 23, 2015 Board Member Meeting.

2. ED Comments

3. Monthly Reports

a. Monthly Participant Activity Report

b. Legislative Report

4. Quarterly Metrics Report

a. Investment Policy

b. Vendor Financials

c. Audit Status

d. Budget Review

e. Project Activity Report

5. Annual Financial Audit—CLA

6. Mainframe Audit

7. DOL Presentation

Part Closed to the Public

8. Security

CONTACT PERSON FOR MORE INFORMATION: Kimberly Weaver, Director, Office of External Affairs, (202) 942-1640.

Dated: April 10, 2015.
Megan Grumbine,
Deputy General Counsel, Federal Retirement Thrift Investment Board.

[FR Doc. 2015-08675 Filed 4-10-15; 4:15 pm]

BILLING CODE 6760-01-P